ENVIRONMENTAL PROTECTION AGENCY

40 CFR Part 60

[EPA-HQ-OAR-2017-0757; FRL-10000-05-OAR]

RIN 2060-AT90

Oil and Natural Gas Sector: Emission Standards for New, Reconstructed, and Modified Sources Review

AGENCY: Environmental Protection Agency (EPA).

ACTION: Proposed rule; notice of public hearing.

SUMMARY: On August 28, 2019, the Administrator of the U.S. Environmental Protection Agency (EPA) signed the proposed rulemaking, “Oil and Natural Gas Sector: Emission Standards for New, Reconstructed, and Modified Sources Review.” The EPA also requested public comment on the proposed action. The EPA is announcing that it will hold a public hearing to provide interested parties the opportunity to present data, views, or arguments concerning the proposed action.

DATES: The EPA will hold a public hearing on October 17, 2019, in Dallas, Texas. Please refer to the SUPPLEMENTARY INFORMATION section for additional information on the public hearing.

ADDRESSES: The hearing will be held at the Earle Cabell Federal Courthouse, 1100 Commerce Street, Dallas, Texas 75242 in the Red River and Live Oak conference rooms on the 7th floor. Because this hearing is being held at a U.S. government facility, individuals planning to attend the hearing should be prepared to show valid picture identification to the security staff to gain access to the meeting room. Please note that the REAL ID Act, passed by Congress in 2005, established new requirements for entering federal facilities. For purposes of the REAL ID Act, the EPA will accept government-issued IDs, including driver's licenses from the District of Columbia and all states and territories. Acceptable alternative forms of identification include: Federal employee badges, passports, enhanced driver's licenses, and military identification cards. Additional information on the REAL ID Act is available at: https://www.dhs.gov/real-id. Any objects brought into the building need to fit through the security screening system, such as a purse, laptop bag, or small backpack. Demonstrations will not be allowed on federal property for security reasons.

FOR FURTHER INFORMATION CONTACT: The EPA will begin pre-registering speakers for the hearing upon publication of this document in the Federal Register. To register to speak at the October 17, 2019, hearing, please use the online registration form available at https://www.epa.gov/controlling-air-pollution-oil-and-natural-gas-industry/proposed-policy-amendments-2012-and-2016-new or contact Virginia Hunt at (919) 541-0832 to register to speak at the hearing. The last day to pre-register to speak at the hearing will be October 14, 2019. If the EPA receives a high volume of requests, we may continue the public hearing on October 18, 2019, at the location described above. We encourage the public to register to speak as soon as possible after this document publishes in order to inform that decision. The EPA does not intend to publish a document in the Federal Register announcing the potential addition of a second day for the public hearing or any updates to the information on the hearing described in this document. Please monitor https://www.epa.gov/controlling-air-pollution-oil-and-natural-gas-industry/proposed-policy-amendments-2012-and-2016-new or contact Virginia Hunt at (919) 541-0832 to determine if there are any updates to the information on the hearing. If a second day of the public hearing is scheduled, we will update the website with this information by October 10, 2019.

On October 15, 2019, the EPA will post at https://www.epa.gov/controlling-air-pollution-oil-and-natural-gas-industry/proposed-policy-amendments-2012-and-2016-new a general agenda for the hearing that will list pre-registered speakers in approximate order. The EPA will make every effort to follow the schedule as closely as possible on the day of the hearing; however, please plan for the hearing to run either ahead of schedule or behind schedule. Additionally, requests to speak will be taken the day of the hearing at the hearing registration desk. The EPA will make every effort to accommodate all speakers who arrive and register, although preferences on speaking times may not be able to be fulfilled.

SUPPLEMENTARY INFORMATION: The hearing will convene at 8:00 a.m. local time and will conclude at 6:00 p.m. local time on October 17, 2019. Lunch breaks will be scheduled as time will allow depending on the number of registered speakers.

Each commenter will have 5 minutes to provide oral testimony. If there are no additional registered speakers, the EPA will end the hearing 2 hours after the last registered speaker has concluded their comments.

The EPA may ask clarifying questions during the oral presentations but will not respond to the presentations at that time. Written statements and supporting information submitted during the comment period will be considered with the same weight as oral comments and supporting information presented at the public hearing. Verbatim transcripts of the hearings and written statements will be included in the docket for the rulemaking. The EPA also encourages commenters to provide the EPA with a copy of their oral testimony electronically (via email) or in hard copy form.

If you require the service of a translator or special accommodations such as audio description, please pre-register for the hearing and describe your needs by October 14, 2019. We may not be able to arrange accommodations without advanced notice.

The EPA will not provide audiovisual equipment for presentations. Any media presentations should be submitted to the public docket at https://www.regulations.gov/, identified by Docket ID No. EPA-HQ-OAR-2017-0757. The EPA must receive comments on the proposed action no later than 60 days after it publishes in the Federal Register.

Dated: September 13, 2019.
Panagiotis Tsirigotis,
Director, Office of Air Quality Planning and Standards.

[FR Doc. 2019-20242 Filed 9-19-19; 8:45 am]

BILLING CODE 6560-50-P